DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to review the first draft of the 2007 report. This year's topic consist of military women's health care in the theater of operations and spouses' employment opportunities. The meeting is open to the public, subject to the availability of space.

Interested person may submit a written statement for consideration by the Defense Department Advisory Committee on Women in the Services. Individuals submitting a written statement must submit their statement to the Point of Contact listed below at the address detailed below, NLT 5 p.m. October 3, 2007. If a written statement is not received by October 3, 2007 prior to the meeting, which is the subject of this notice, then it may not be provided to or considered by the Defense Department Advisory Committee on Women in the Services until its next open meeting. The Designated Federal Officer will review all timely submissions with the Defense Department Advisory Committee on Women in the Services Chairperson and ensure they are provided to the members of the Defense Department Advisory Committee on Women in the Services. If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Tuesday, 9 October from 4:30 p.m. to 5 p.m. before the full Committee. Number of oral presentations to be made will depend on the number of requests received from members of the public.

DATES: 9 October 2007, 8:30 a.m.-5 p.m.; 10 October 2007, 8:30 a.m.-5 p.m.; 11 October 2007, 8:30 a.m.-5 p.m.

Location: Double Tree Hotel Crystal City National Airport, 300 Army Navy Drive, Arlington, VA 22202.

FOR FURTHER INFORMATION CONTACT: MSgt Robert Bowling, USAF, DACOWITS, 4000 Defense Pentagon, Room 2C548A, Washington, DC 20301-4000. Robert.bowling@osd.mil Telephone (703) 697-2122. Fax (703) 614-6233.

SUPPLEMENTARY INFORMATION: Meeting agenda.

Tuesday, 9 October 2007 8:30 a.m.-5 p.m.

Welcome & Administrative Remarks; 2007 Report briefings on military women's health care in the theater of operations and Service members' spouses' employment opportunities.

Edit first draft of the report.

Public Forum.

Wednesday, 10 October 2007 8:30 a.m.-5 p.m.

Edit first draft of the report.

Thursday 11 October 2007 8:30 a.m.-12 p.m.

Welcome & Administrative Remarks.

Begin work on findings and recommendations of 1st Draft 2007 Report.

Note: Exact order may vary.

Dated: September 17, 2007.
L.M. Bynum,
Alternate OSD Federal Register Liaison Officer, DoD.

[FR Doc. 07-4690 Filed 9-20-07; 8:45 am]

BILLING CODE 5001-06-M